DEPARTMENT OF COMMERCE

International Trade Administration

[Application No. 99-14A05]

Export Trade Certificate of Review

ACTION: Notice of issuance of an amended Export Trade Certificate of Review to California Almond Export Association, LLC (CAEA), Application No. 99-14A05.

SUMMARY: The Secretary of Commerce, through the Office of Trade and Economic Analysis (OTEA), issued an amended Export Trade Certificate of Review (Certificate) to CAEA on October 15, 2021.

FOR FURTHER INFORMATION CONTACT: Joseph Flynn, Director, OTEA, International Trade Administration, (202) 482-5131 (this is not a toll-free number) or email at etca@trade.gov.

SUPPLEMENTARY INFORMATION: Title III of the Export Trading Company Act of 1982 (15 U.S.C. 4001-21) (the Act) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325. OTEA is issuing this notice pursuant to 15 CFR 325.6(b), which requires the Secretary of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Certified Conduct

CAEA's Certificate has been amended as follows: The following companies were added as Members of the Certificate within the meaning of section 325.2(1) of the Regulations (15 CFR 325.2(1)):

• Bear Republic Nut, Chico, CA

• JSS Almonds, LLC, Bakersfield, CA

• VF Marking Corporation DBA Vann Family Orchards, Williams, CA

CAEA's amended Certificate Membership is as follows:

Almonds California Pride, Inc., Caruthers, CA

Baldwin-Minkler Farms, Orland, CA

Bear Republic Nut, Chico, CA

Blue Diamond Growers, Sacramento, CA

Campos Brothers, Caruthers, CA

Chico Nut Company, Chico, CA

Del Rio Nut Company, Livingston, CA

Fair Trade Corner, Inc., Chico, CA

Fisher Nut Company, Modesto, CA

Hilltop Ranch, Inc., Ballico, CA

Hughson Nut, Inc., Hughson, CA

JSS Almonds, LLC, Bakersfield, CA

Mariani Nut Company, Winters, CA

Nutco, LLC d.b.a. Spycher Brothers, Turlock, CA

Pearl Crop, Inc., Stockton, CA

P-R Farms, Inc., Clovis, CA

Roche Brothers International Family Nut Co., Escalon, CA

RPAC, LLC, Los Banos, CA

South Valley Almond Company, LLC, Wasco, CA

Stewart & Jasper Marketing, Inc., Newman, CA

SunnyGem, LLC, Wasco, CA

VF Marking Corporation DBA Vann Family Orchards, Williams, CA

Western Nut Company, Chico, CA

Wonderful Pistachios & Almonds, LLC, Los Angeles, CA

The effective date of the amended certificate is June 22, 2021, the date on which CAEA's application to amend was deemed submitted.

Dated: November 3, 2021.
Joseph Flynn,
Director, Office of Trade and Economic Analysis, International Trade Administration, U.S. Department of Commerce.

[FR Doc. 2021-24416 Filed 11-8-21; 8:45 am]

BILLING CODE 3510-DR-P